ENVIRONMENTAL PROTECTION AGENCY

[FRL-6947-9]

Agency Information Collection Activities: Submission for OMB Review; Comment Request; Exports From and Imports to the United States Under International and Bilateral Waste Agreements

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: “Exports from and Imports to the United States under International and Bilateral Waste Agreements,” OMB Control Number 2050-0143; expiration date March 31, 2001. The ICR describes the nature of the information collection and its expected burden and cost; where appropriate, it includes the actual data collection instrument.

DATES: Comments must be submitted on or before March 30, 2001.

ADDRESSES: Send comments, referencing EPA ICR No. 1647.03 and OMB Control No. 2050-0143, to the following addresses: Sandy Farmer, U.S. Environmental Protection Agency, Collection Strategies Division (Mail Code 2822), 1200 Pennsylvania Avenue, NW., Washington, DC 20460; and to Office of Information and Regulatory Affairs, Office of Management and Budget (OMB), Attention: Desk Officer for EPA, 725 17th Street, NW., Washington, DC 20503.

FOR FURTHER INFORMATION CONTACT: For a copy of the ICR contact Sandy Farmer at EPA by phone at (202) 260-2740, by e-mail at farmer.sandy@epamail.epa.gov, or download off the Internet at http://www.epa.gov/icr and refer to EPA ICR No. 1647.03. For technical questions about the ICR contact Patricia Whiting on 703-308-8421.

SUPPLEMENTARY INFORMATION: Title: Exports from and Imports to the United States under International and Bilateral Waste Agreements; OMB Control Number 2050-0143; EPA ICR No. 1647.03; expiring March 31, 2001. This is a request for extension of a currently approved collection.

Abstract: Authority for this information collection is found in sections 2002(a) and 3017(a)(2) and (f) of the Solid Waste Disposal Act, as amended by the Resource Conservation and Recovery Act, and as amended by the Hazardous and Solid Waste Amendments, 42 U.S.C. 6901 et seq. The Organization for Economic Cooperation and Development (OECD) Decision is considered legally binding on the United States under Articles 5(a) and 6(2) of the OECD Convention, 12 U.S.T. 1728. In addition, the OECD Decision and EPA's rule implementing the OECD Decision in 40 CFR part 262, subpart H (61 FR 16290; April 12, 1996) impose requirements on U.S. exporters and importers for shipments of hazardous waste for recovery to and from OECD member countries. EPA also imposes requirements on hazardous waste exports and imports to and from other countries in 40 CFR part 262, subparts E and F, respectively (August 8, 1986; 51 FR 28664). U.S. EPA's Office of Enforcement and Compliance Assurance uses the information provided by each U.S. exporter and importer to determine compliance with the applicable RCRA regulatory provisions. In addition, the information will be used to determine the number, origin, destination, and type of exports from and imports to the U.S. for tracking purposes and for reporting to the OECD. This information also will be used to assess the efficiency of the program. An agency may not conduct or sponsor, and a person is not required to respond to, a collection of information unless it displays a currently valid OMB control number. The OMB control numbers for EPA's regulations are listed in 40 CFR part 9 and 48 CFR chapter 15. The Federal Register Notice required under 5 CFR 1320.8(d), soliciting comments on this collection of information, was published on November 1, 2000 (65 FR 65304); no comments were received.

Burden Statement: The annual public reporting and recordkeeping burden for this collection of information is estimated to average 10 hours per exporter and 1 hour per importer. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Exporters and Importers of Hazardous Wastes to U.S.

Estimated Number of Respondents: 1,562.

Estimated Total Annual Hour Burden: 9,334.

Estimated Total Annualized Capital, O&M Cost Burden: $1,015.

Send comments on the Agency's need for this information, the accuracy of the provided burden estimates, and any suggestions for minimizing respondent burden, including the use of automated estimates, and any suggestions for minimizing respondent burden, including the use of automated collection techniques to the addresses listed above. Please refer to the EPA ICR Number 1647.03 Control Number 2050-0143 in any correspondence.

Dated: February 13, 2001.
Oscar Morales,
Director, Collection Strategies Division.

[FR Doc. 01-4869 Filed 2-27-01; 8:45 am]

BILLING CODE 6560-50-P